DEPARTMENT OF TRANSPORTATION

Federal Aviation Administration

14 CFR Part 39

[Docket No. FAA-2025-0755; Project Identifier MCAI-2024-00633-T; Amendment 39-23108; AD 2025-16-10]

RIN 2120-AA64

Airworthiness Directives; Airbus SAS Airplanes

AGENCY: Federal Aviation Administration (FAA), DOT.

ACTION: Final rule.

SUMMARY: The FAA is superseding Airworthiness Directive (AD) 2020-06-18, which applied to all Airbus SAS Model A318 series airplanes; A319 series airplanes; A320-211, -212, -214, -216, -231, -232, -233, -251N, -252N, -253N, -271N, -272N, and -273N airplanes; and A321 series airplanes. AD 2020-06-18 required replacement of affected trimmable horizontal stabilizer actuators (THSAs) with serviceable THSAs. Since the FAA issued AD 2020-06-18, a new Airbus airplane model (A321-253NY) has been certified, on which affected parts could be installed in service. This AD continues to require the actions in AD 2020-06-18, revises the applicability to include Model A321-253NY airplanes, and prohibits the installation of affected parts. The FAA is issuing this AD to address the unsafe condition on these products.

DATES: This AD is effective September 22, 2025.

The Director of the Federal Register approved the incorporation by reference of a certain publication listed in this AD as of September 22, 2025.

ADDRESSES:

AD Docket: You may examine the AD docket at regulations.gov under Docket No. FAA-2025-0755; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0755.

FOR FURTHER INFORMATION CONTACT: Timothy Dowling, Aviation Safety Engineer, FAA, 2200 South 216th St., Des Moines, WA 98198; telephone 206-231-3667; email timothy.p.dowling@faa.gov.

SUPPLEMENTARY INFORMATION:

Background

The FAA issued a notice of proposed rulemaking (NPRM) to amend 14 CFR part 39 to supersede AD 2020-06-18, Amendment 39-19887 (85 FR 18428, April 2, 2020) (AD 2020-06-18). AD 2020-06-18 applied to all Airbus SAS Model A318 series airplanes; A319 series airplanes; A320-211, -212, -214, -216, -231, -232, -233, -251N, -252N, -253N, -271N, -272N, and -273N airplanes; and A321 series airplanes. AD 2020-06-18 required replacement of affected THSAs with serviceable THSAs. The FAA issued AD 2020-06-18 to address improper installation of the THSA ball screw jack, which can compromise the failsafe design of the THSA.

The NPRM was published in the Federal Register on May 19, 2025 (90 FR 21242). The NPRM was prompted by AD 2024-0203, dated October 22, 2024, issued by EASA, which is the Technical Agent for the Member States of the European Union (EASA AD 2024-0203) (also referred to as the MCAI). The MCAI states a new airplane model (A321-253NY) has been certified by EASA, on which affected parts could be installed in service. EASA AD 2024-0203 extends the applicability to include Model A321-253NY airplanes and prohibits installation of affected parts on those airplanes in service.

In the NPRM, the FAA proposed to continue to require the actions in AD 2020-06-18, to revise the applicability to include Model A321-253NY airplanes, and to prohibit the installation of affected parts, as specified in EASA AD 2024-0203. The FAA is issuing this AD to address improper installation of the THSA ball screw jack, which can compromise the failsafe design of the THSA. The unsafe condition, if not addressed, could result in uncontrolled movement of the horizontal stabilizer as a result of a single failure of the THSA, and consequent loss of control of the airplane.

You may examine the MCAI in the AD docket at regulations.gov under Docket No. FAA-2025-0755.

Discussion of Final Airworthiness Directive

Comments

The FAA received comments from the Air Line Pilots Association, International (ALPA) and United Airlines who supported the NPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0203, which specifies procedures for replacing affected THSAs with serviceable THSAs. EASA AD 2024-0203 also prohibits the installation of affected parts. This material is reasonably available because the interested parties have access to it through their normal course of business or by the means identified in the ADDRESSES section.

Costs of Compliance

The FAA estimates that this AD affects 90 airplanes of U.S. registry. For airplanes affected by AD 2020-06-18, and for any affected airplane that is imported and placed on the U.S. Register in the future, the FAA estimates the following costs to comply with this AD:

Estimated Costs for Required Actions
Action | Labor cost | Parts cost | Cost per product | Cost on U.S. operators
Replacement | Up to 8 work-hours × $85 per hour = Up to $680 | $326,608 | Up to $327,288 | Up to $29,455,920.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-06-18, Amendment 39-19887 (85 FR 18428, April 2, 2020); and

b. Adding the following new AD:

2025-16-10 Airbus SAS: Amendment 39-23108; Docket No. FAA-2025-0755; Project Identifier MCAI-2024-00633-T.

(a) Effective Date

This airworthiness directive (AD) is effective September 22, 2025.

(b) Affected ADs

This AD replaces AD 2020-06-18, Amendment 39-19887 (85 FR 18428, April 2, 2020) (AD 2020-06-18).

(c) Applicability

This AD applies to all Airbus SAS airplanes identified in paragraphs (c)(1) through (4) of this AD, certificated in any category.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -253NY, -271N, -271NX, -272N, and -272NX airplanes.

(d) Subject

Air Transport Association (ATA) of America Code 27, Flight controls.

(e) Unsafe Condition

This AD was prompted by a maintenance repair organization's report of deviations from the component maintenance manual acceptance test procedure for certain trimmable horizontal stabilizer actuators (THSAs). This AD was also prompted by a determination that affected parts could also be installed on Model A321-253NY airplanes. The FAA is issuing this AD to address improper installation of the THSA ball screw jack, which can compromise the failsafe design of the THSA. The unsafe condition, if not addressed, could result in uncontrolled movement of the horizontal stabilizer as a result of a single failure of the THSA, and consequent loss of control of the airplane.

(f) Compliance

Comply with this AD within the compliance times specified, unless already done.

(g) Requirements

Except as specified in paragraph (h) of this AD: Comply with all required actions and compliance times specified in, and in accordance with, European Union Aviation Safety Agency (EASA) AD 2024-0203, dated October 22, 2024 (EASA AD 2024-0203).

(h) Exceptions to EASA AD 2024-0203

(1) Where EASA AD 2024-0203 refers to “02 April 2020 [the effective date of EASA AD 2020-0073]”, this AD requires using “April 2, 2020 (the effective date of AD 2020-26-18)”.

(2) Where EASA AD 2024-0203 refers to its effective date, this AD requires using the effective date of this AD.

(3) Where EASA AD 2024-0203 defines a serviceable part as “Any THSA, eligible for installation in accordance with Airbus instructions, which is not an affected part” this AD requires replacing that text with “Any THSA, eligible for installation, that is not an affected part”.

(4) This AD does not adopt the “Remarks” section of EASA AD 2024-0203.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Timothy Dowling, Aviation Safety Engineer, FAA, 2200 South 216th St., Des Moines, WA 98198; telephone 206-231-3667; email timothy.p.dowling@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0203, dated October 22, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 4, 2025.
Peter A. White,
Deputy Director, Integrated Certificate Management Division, Aircraft Certification Service.

[FR Doc. 2025-15689 Filed 8-15-25; 8:45 am]

BILLING CODE 4910-13-P